DEPARTMENT OF COMMERCE

International Trade Administration

[A-588-833]

Stainless Steel Bar From Japan: Final Results of Antidumping Duty Changed-Circumstances Review, and Revocation of Order in Part

AGENCY: Import Administration, International Trade Administration, Department of Commerce.

SUMMARY: On May 29, 2012, the Department of Commerce (the Department) published in the Federal Register a notice of initiation and preliminary results of the antidumping duty changed-circumstances review with intent to revoke in part the order on stainless steel bar (SSBar) from Japan (the Order).¹ In the Initiation and Preliminary Results, we invited interested parties to comment on the preliminary determinations to exclude three products under Grades 304 and 440C, as described below, from the scope of the Order and to revoke the Order in part retroactively to February 1, 2010. The Department received no comments from interested parties. Therefore, the Department is revoking the Order in part to exclude the three products described below in New Scope Language, effective February 1, 2010.

¹ See Stainless Steel Bar From Japan: Initiation and Preliminary Results of Antidumping Duty Changed-Circumstances Review, and Intent To Revoke Order in Part, 77 FR 31578 (May 29, 2012) (Initiation and Preliminary Results).

DATES: Effective Date: February 1, 2010.

FOR FURTHER INFORMATION CONTACT: Bryan Hansen or Minoo Hatten, AD/CVD Operations, Office 1, Import Administration, International Trade Administration, Department of Commerce, 14th Street and Constitution Avenue NW, Washington, DC 20230; telephone: (202) 482-3683 or (202) 482-1690, respectively.

SUPPLEMENTARY INFORMATION:

Background

On February 21, 1995, the Department published the Order.² On February 14, 2012, Suruga USA Corp. (Suruga) requested that the Department conduct a changed-circumstances review of the Order.³ On May 7, 2012, Suruga submitted revised product descriptions, as described below, with respect to one product under Grade 304 and two products under Grade 440C.⁴ Suruga stated that, although the form of the descriptions was revised for ease of understanding, the products described in its May 7, 2012 submission are identical to those in its February 14, 2012 submission.⁵ On May 11, 2012, we received a submission from the petitioners ⁶ expressing a lack of interest in the products identified in Suruga's May 7, 2012, request and certifications that they account for virtually all of the domestic production of the particular SSBar.⁷ On May 29, 2012, we published the initiation and preliminary results of this changed-circumstances review.⁸ As noted above, we gave interested parties an opportunity to comment on the Initiation and Preliminary Results.⁹ We received no comments from interested parties.

² See Notices of Antidumping Duty Orders: Stainless Steel Bar from Brazil, India, and Japan, 60 FR 9661 (February 21, 1995).

³ See generally Suruga's Letter to the Department, dated February 14, 2012.

⁴ See Suruga's Letter to the Department, dated May 7, 2012 at Attachment A.

⁵ See id. at 1 and Attachment A.

⁶ The petitioners are Carpenter Technology Corporation, Crucible Industries LLC, Electralloy Corporation a Division of G.O. Carlson Inc. Co., North American Stainless, Outokumpu Stainless Bar, Inc., Universal Stainless & Alloy Products, Inc., and Valbruna Slater Stainless, Inc.

⁷ See the petitioners' letter to the Department, dated May 11, 2012, at 1. The petitioners used the term “virtually all” in their May 11, 2012, letter. See id. at 1-2. For the final results, the Department continues to interpret the phrase “virtually all” as fulfilling the “substantially all” threshold provided under section 351.222(g)(1)(i) of the Department's regulations.

⁸ See generally Initiation and Preliminary Results.

⁹ See id. 77 FR at 31580.

Scope of the Order

The scope of the order covers SSBar. The term SSBar with respect to the order means articles of stainless steel in straight lengths that have been either hot-rolled, forged, turned, cold-drawn, cold-rolled or otherwise cold-finished, or ground, having a uniform solid cross section along their whole length in the shape of circles, segments of circles, ovals, rectangles (including squares), triangles, hexagons, octagons or other convex polygons. SSBar includes cold-finished SSBars that are turned or ground in straight lengths, whether produced from hot-rolled bar or from straightened and cut rod or wire, and reinforcing bars that have indentations, ribs, grooves, or other deformations produced during the rolling process.

Except as specified above, the term does not include stainless steel semi-finished products, cut-length flat-rolled products (i.e., cut-length rolled products which if less than 4.75 mm in thickness have a width measuring at least 10 times the thickness, or if 4.75 mm or more in thickness having a width which exceeds 150 mm and measures at least twice the thickness), wire (i.e., cold-formed products in coils, of any uniform solid cross section along their whole length, which do not conform to the definition of flat-rolled products), and angles, shapes and sections.

In addition, the term does not include certain valve/stem stainless steel round bar of 21-2N modified grade, having a diameter of 5.7 millimeters (with a tolerance of 0.025 millimeters), in length no greater than 15 meters, having a chemical composition consisting of a minimum of 0.50 percent and a maximum of 0.60 percent of carbon, a minimum of 7.50 percent and a maximum of 9.50 percent of manganese, a maximum of 0.25 percent of silicon, a maximum of 0.04 percent of phosphorus, a maximum of 0.03 percent of sulfur, a minimum of 20.0 percent and a maximum of 22.00 percent of chromium, a minimum of 2.00 percent and a maximum of 3.00 percent of nickel, a minimum of 0.20 percent and a maximum of 0.40 percent of nitrogen, a minimum of 0.85 percent of the combined content of carbon and nitrogen, and a balance minimum of iron, having a maximum core hardness of 385 HB and a maximum surface hardness of 425 HB, with a minimum hardness of 270 HB for annealed material.¹⁰

¹⁰ See Final Results of Antidumping Duty Changed-Circumstances Review and Revocation of Order in Part: Stainless Steel Bar from Japan, 71 FR 70959, 70960 (December 7, 2006).

The SSBar subject to the order is currently classifiable under subheadings 7222.11.00, 7222.19.00, 7222.20.00, and 7222.30.00 of the Harmonized Tariff Schedule of the United States (HTSUS).¹¹ Although the HTSUS subheadings are provided for convenience and customs purposes, our written description of the scope of the order is dispositive.

¹¹ The Department previously listed 7222.10.0005, 7222.10.0050, 7222.20.0005, 7222.20.0045, 7222.20.0075, and 7222.30.0000 in the scope of the Order. See id. 71 FR at 7059. On February 14, 2010, the above-referenced numbers were replaced with 7222.10.10, 7222.11.00, 7222.19.00, 7222.20.00, and 7222.30.00. As a result of recent changes to the HTSUS, effective February 3, 2012, the subject merchandise is no longer classifiable under HTSUS 7222.10.00. See Harmonized Tariff Schedule of the United States, available at http://www.usitc.gov/tata/hts/bychapter/_1200.htm.

Final Results of Antidumping Duty Changed-Circumstances Review and Revocation of the Order in Part

Pursuant to sections 751(d)(1) and 782(h)(2) of the Tariff Act of 1930 (the Act), as amended, the Department may revoke an antidumping duty order in part after conducting a changed-circumstances review under section 751(b) of the Act. Section 751(b)(1) requires a changed-circumstances review to be conducted upon the receipt of a request which shows changed-circumstances sufficient to warrant a review.

The affirmative statement of no interest by the petitioners regarding the products, as described below in the New Scope Language section, along with the fact that no other domestic interested party commented on the Initiation and Preliminary Results, constitutes sufficient support on the part of virtually all domestic producers of like merchandise to warrant revocation of the Order in part. Therefore, in accordance with sections 751(d)(1) and 782(h) of the Act and sections 351.216(d) and 351.222(g)(1)(i) of the Department's regulations, the Department is partially revoking the Order with regard to the products meeting the specifications described below.

New Scope Language

As a result of the final results of this changed-circumstances review, the Department will add the following language, as the penultimate paragraph, to the scope of the Order: “Furthermore, effective for entries entered, or withdrawn for warehouse, for consumption on or after February 1, 2010, the term does not include one SSBar product under Grade 304 and two types of SSBar products under Grade 440C. (1) The Grade 304 product meets the following descriptions: round cross-section, cold finished, chrome plated (plating thickness 10 microns or greater), hardness of plating a minimum 750 HV on the Vickers Scale, maximum roundness deviation of 0.020 mm (based on circularity tolerance described in JIS B 0021 (1984)), in actual (measured) lengths from 2000 mm to 3005 mm, in nominal outside diameters ranging from 6 mm to 30 mm (diameter tolerance for any size from minus 0.010 mm to minus 0.053 mm). Tolerance can be defined as the specified permissible deviation from a specified nominal dimension; for example if the nominal outside diameter of the product entering is 6 mm, then the actual measured sizes should fall within 5.947 mm to 5.990 mm; (2) The first Grade 440C product meets the following descriptions: round cross-section, cold finished, heat treated through induction hardening, minimum Rockwell hardness of 56 Hardness of 56 HRC, maximum roundness deviation of 0.007 mm (based on circularity tolerance described in JIS B 0021 (1984)), in actual (measured) lengths from 500 mm to 3005 mm, in nominal outside diameters ranging from 3 mm to 38.10 mm (diameter tolerance for any size from 0.00 mm to minus 0.150 mm). Tolerance can be defined as the specified permissible deviation from a specified nominal dimension; for example if the nominal outside diameter of the product entering is 3 mm, then the actual measured sizes should fall within 2.850 mm to 3.000 mm; (3) The second Grade 440C product meets the following descriptions: round cross-section, cold finished, chrome plated (plating thickness 5 microns or greater), heat treated through induction hardening, minimum Rockwell Hardness of 56 HRC, maximum roundness deviation of 0.007 mm (based on circularity tolerance described in JIS B 0021 (1984)), in actual (measured) lengths from 2000 mm to 3005 mm, in nominal outside diameters ranging from 6 mm to 30 mm (diameter tolerance for any size from minus 0.004 mm to minus 0.020 mm). Tolerance can be defined as the specified permissible deviation from a specified nominal dimension; for example if the nominal outside diameter of the product entering is 6 mm, then the actual measured sizes should fall within 5.980 mm to 5.996 mm.”

Effective Date of Revocation

As stated in the Initiation and Preliminary Results, it is the Department's practice to revoke an order (in whole or in part) so that the effective date of revocation covers entries that have not been subject to a completed administrative review.¹² Absent any comments from interested parties, the Department continues to find that it is appropriate to revoke the Order in part retroactively to February 1, 2010, since the Department has not completed an administrative review of the Order for the period February 1, 2010, through January 31, 2011. Therefore, in accordance with section 751(d)(3) of the Act and section 351.222(g)(4) of the Department's regulations, the Department will instruct U.S. Customs and Border Protection (CBP) to (1) terminate the suspension of liquidation of all unliquidated entries of the three types of SSBar from Japan described above, entered, or withdrawn from warehouse, for consumption on or after February 1, 2010, and (2) liquidate such entries without regard to antidumping duties. The Department will further instruct CBP to refund with interest any estimated duties collected with respect to unliquidated entries of the three types of SSBar from Japan described above, entered or withdrawn from warehouse, for consumption on or after February 1, 2010, in accordance with section 778 of the Act and section 351.222(g)(4) of the Department's regulations.

¹² See 77 FR at 31580 (citing Notice of the Final Results of Changed Circumstances Review and Revocation of the Antidumping Order: Coumarin from the People's Republic of China, 69 FR 24122 (May 3, 2004) and the accompanying Issues and Decision Memorandum at 3; Large Newspaper Printing Presses and Components Thereof, Whether Assembled or Unassembled, from Germany: Notice of Final Results of Changed Circumstances Review, Revocation of the Antidumping Duty Order, and Rescission of Administrative Reviews, 67 FR 19551, 19552 (April 22, 2002)).

Notification Regarding Administrative Protective Order

This notice serves as a reminder to parties subject to administrative protective order (APO) of their responsibility concerning the disposition of proprietary information disclosed under APO in accordance with section 351.306 of the Department's regulations. Timely written notification of the return and/or destruction of APO materials or conversion to judicial protective order is hereby requested. Failure to comply with the regulations and terms of an APO is a sanctionable violation.

This notice is published in accordance with section 777(i)(1) of the Act and sections 351.216(e) and 351.222(g)(3)(vii) of the Department's regulations.

Dated: June 20, 2012.
Ronald K. Lorentzen,
Acting Assistant Secretary for Import Administration.

[FR Doc. 2012-15759 Filed 6-26-12; 8:45 am]

BILLING CODE 3510-DS-P